NATIONAL SCIENCE FOUNDATION

Sunshine Act Meetings

The National Science Board (NSB) Committee on Awards and Facilities (A&F) hereby gives notice of scheduling a videoconference for the transaction of NSB business pursuant to the National Science Foundation Act and the Government in the Sunshine Act.

TIME AND DATE: Friday, February 20, 2026, from 2:00-4:00 p.m. ET. Open session from 2:00-2:40 p.m. and closed session from 2:40-4:00 p.m. ET.

PLACE: The meeting will be held by videoconference through the National Science Foundation, 401 Dulaney Street, Alexandria, Virginia, 22314. Members of the public can observe the open portion of this meeting through a YouTube livestream link. The link will be available on the NSB ‘Events’ web page.

STATUS: Open and closed portions as noted below.

MATTERS TO BE CONSIDERED:

Open session: Committee chair's opening remarks; context item: National Radio Astronomy Observatory Operations and Maintenance award.

Closed session: Committee chair's opening remarks on the agenda; information item: Annual Report of the Chief Officer for Research Facilities.

CONTACT PERSON FOR MORE INFORMATION: The point of contact for this meeting is Chris Blair, cblair@nsf.gov, 703/292-7000.

Ann E. Bushmiller,
Senior Counsel to the National Science Board.

[FR Doc. 2026-03083 Filed 2-12-26; 4:15 pm]

BILLING CODE 7555-01-P